FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Request for Site Inspection; Landowner's Authorization/Ingress/Egress Agreement.

Type of Information Collection: Revision of a currently approved collection.

OMB Number: 3067-0222.

Abstract: FEMA's Temporary Housing Assistance is used to provide mobile homes, travel trailers, or other forms of readily prefabricated forms of housing for the purpose of providing temporary housing to eligible applicants or victims of federally declared disasters. This information is required to determine the feasibility of the site for installation of the housing unit and ensures written permission of the property owner is obtained to allow the housing unit on to the property to include ingress and egress permission.

Affected Public: Individuals or households.

Number of Respondents: 1000.

Estimated Time per Respondent:

FEMA Forms | No. of respondents (A) | No. of responses (B) | Hours per response (C) | Annual burden hours (A x B x C)
90-1 | 1000 | 1000 | 10 minutes | 167
90-31 | 1000 | 1200 | 10 minutes | 200
Total | 1000 | 2200 |  | 367

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail muriel.anderson@fema.gov.

Dated: July 23, 2002.
Reginald Trujillo,
Branch Chief, Program Services and Systems Branch, Facilities Management and Services Division, Administration and Resource Planning Directorate.

[FR Doc. 02-20151 Filed 8-8-02; 8:45 am]

BILLING CODE 6718-01-P